DEPARTMENT OF THE TREASURY

Submission for OMB Review; Comment Request

July 15, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before August 22, 2002, to be assured of consideration.

Bureau of the Public Debt (PD)

OMB Number: New.

Form Number: None.

Type of Review: New collection.

Title: Brand Tracking Survey.

Description: The survey will focus on Treasury Direct marketing issues.

Respondents: Individuals or households.

Estimated Number of Respondents: 2,600.

Estimated Burden Hours Per Respondent: 1 hour.

Frequency of Response: Other (once).

Estimated Total Reporting Burden Hours: 650 hours.

Clearance Officer: Vicki S. Thorpe, Bureau of the Public Debt, 200 Third Street, Parkersburg, West VA 26106-1328, (304) 480-6553.

OMB Reviewer: Joseph F. Lackey, Jr., Office of Management and Budget, Room 10235, New Executive Office Building, Washington, DC 20503, (202) 395-7316.

Lois K. Holland,
Departmental Reports Management Officer.

[FR Doc. 02-18569 Filed 7-22-02; 8:45 am]

BILLING CODE 4810-39-P